DEPARTMENT OF THE INTERIOR

Bureau of Land Management

[LLORW00000 L16100000.AL0000 LXSS02H0000 15XL5017AP HAG14-0201]

Notice of Meeting of the San Juan Islands National Monument Advisory Committee

AGENCY: Bureau of Land Management, Interior.

ACTION: Notice of public meeting.

SUMMARY: In accordance with the Federal Land Policy and Management Act and the Federal Advisory Committee Act, the Bureau of Land Management's (BLM) San Juan Islands National Monument Advisory Committee (MAC) will meet as indicated below.

DATES: The MAC will meet October 29-30, 2014, from 10:15 a.m.-3:45 p.m. both days, at the San Juan Island Grange, 152 N 1st Street, Friday Harbor, Washington 98250. The first day of the meeting will be devoted to new member orientation and an introduction to the resource management plan process. The second day of the meeting will include establishing MAC goals and beginning a collaborative project on public outreach, closing with a public comment period.

FOR FURTHER INFORMATION CONTACT: Marcia deChadenèdes, San Juan Islands National Monument Manager, P.O. Box 3, 37 Washburn Ave., Lopez Island, Washington 98261, (360) 468-3051, or mdechade@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: The 12-member San Juan Islands MAC was chartered to provide information and advice regarding the development of the San Juan Islands National Monument's resource management plan. Members represent an array of stakeholder interests in the land and resources from within the local area and statewide. Planned agenda items include training on the Federal Advisory Committee Act, advisory committee procedures, the resource management plan process, MAC goal setting, and a collaborative project on public outreach. On October 30, 2014, at 2:45 p.m., members of the public will have the opportunity to make comments to the MAC during a one-hour public comment period. All advisory committee meetings are open to the public. Persons wishing to make comments during the public comment period should register in person with the BLM by 2 p.m. on October 30, 2014, at the meeting location. Depending on the number of persons wishing to comment, the length of comments may be limited. The public may send written comments to the MAC at San Juan Islands National Monument, Attn. MAC, P.O. Box 3, 37 Washburn Ave., Lopez Island, Washington 98261. The BLM appreciates all comments.

Jody L. Weil,
Oregon State Office Deputy State Director for Communications.

[FR Doc. 2014-23235 Filed 9-29-14; 8:45 am]

BILLING CODE 4310-33-P